DEPARTMENT OF ENERGY

Federal Energy Regulatory Commission

Combined Notice of Filings #1

Take notice that the Commission received the following electric rate filings:

Docket Numbers: ER13-1356-002.

Applicants: Duke Energy Florida, LLC.

Description: Compliance filing [including Pro Forma sheets] and Waiver Request of Duke Energy Florida, LLC.

Filed Date: 12/21/15.

Accession Number: 20151221-5379.

Comments Due: 5 p.m. ET 1/11/16.

Docket Numbers: ER14-2022-002.

Applicants: Midcontinent Independent System Operator, Inc.

Description: Request to Terminate Waiver effective February 1, 2016 of Midcontinent Independent System Operator, Inc.

Filed Date: 12/21/15.

Accession Number: 20151221-5389.

Comments Due: 5 p.m. ET 1/11/16.

Docket Numbers: ER16-599-000.

Applicants: PJM Interconnection, L.L.C.

Description: § 205(d) Rate Filing: First Revised Service Agreement No. 4184; Queue No. Z2-106 to be effective 12/9/2015.

Filed Date: 12/21/15.

Accession Number: 20151221-5274.

Comments Due: 5 p.m. ET 1/11/16.

Docket Numbers: ER16-600-000.

Applicants: PJM Interconnection, L.L.C.

Description: § 205(d) Rate Filing: Original Service Agreement No.4346; Queue No. AA2-066 to be effective 11/24/2015.

Filed Date: 12/21/15.

Accession Number: 20151221-5270.

Comments Due: 5 p.m. ET 1/11/16.

Docket Numbers: ER16-601-000.

Applicants: Midcontinent Independent System Operator, Inc.

Description: § 205(d) Rate Filing: 2015-12-21_Revisions to Section 19.1.1.2—Pre-Certified TSRs to be effective 2/1/2016.

Filed Date: 12/21/15.

Accession Number: 20151221-5272.

Comments Due: 5 p.m. ET 1/11/16.

Docket Numbers: ER16-602-000.

Applicants: PJM Interconnection, L.L.C.

Description: § 205(d) Rate Filing: First Revised Interconnection Service Agreement No. 3808, Queue No. AA1-083 to be effective 5/6/2017.

Filed Date: 12/21/15.

Accession Number: 20151221-5278.

Comments Due: 5 p.m. ET 1/11/16.

Docket Numbers: ER16-603-000.

Applicants: PJM Interconnection, L.L.C.

Description: § 205(d) Rate Filing: First Revised WMPA SA No. 4187, Queue No. Z2-099/AA2-086 to be effective 11/24/2015.

Filed Date: 12/21/15.

Accession Number: 20151221-5298.

Comments Due: 5 p.m. ET 1/11/16.

Docket Numbers: ER16-604-000.

Applicants: Nevada Power Company.

Description: Compliance filing: Market-Based Rate Tariff, Volume No. 11 Amendments ER15-2281 to be effective 12/1/2015.

Filed Date: 12/21/15.

Accession Number: 20151221-5299.

Comments Due: 5 p.m. ET 1/11/16.

Docket Numbers: ER16-605-000.

Applicants: Sierra Pacific Power Company.

Description: Compliance filing: Market-Based Rate Tariff Volume No. 7 to be effective 12/1/2015.

Filed Date: 12/21/15.

Accession Number: 20151221-5308.

Comments Due: 5 p.m. ET 1/11/16.

Docket Numbers: ER16-606-000.

Applicants: PacifiCorp.

Description: Compliance filing: Amendment to Market-Based Rate Tariff—EIM Compliance Filing to be effective 12/1/2015.

Filed Date: 12/21/15.

Accession Number: 20151221-5310.

Comments Due: 5 p.m. ET 1/11/16.

Docket Numbers: ER16-607-000.

Applicants: 67RK 8me LLC.

Description: § 205(d) Rate Filing: SFA to be effective 12/22/2015.

Filed Date: 12/21/15.

Accession Number: 20151221-5311.

Comments Due: 5 p.m. ET 1/11/16.

Docket Numbers: ER16-608-000.

Applicants: 65HK 8me LLC.

Description: § 205(d) Rate Filing: 65HK 8me LLC Hayworth SFA to be effective 12/22/2015.

Filed Date: 12/21/15.

Accession Number: 20151221-5312.

Comments Due: 5 p.m. ET 1/11/16.

Docket Numbers: ER16-609-000.

Applicants: 87RL 8me LLC.

Description: § 205(d) Rate Filing: 87RL 8me LLC Woodmere SFA to be effective 12/22/2015.

Filed Date: 12/21/15.

Accession Number: 20151221-5313.

Comments Due: 5 p.m. ET 1/11/16.

Docket Numbers: ER16-610-000.

Applicants: Northern Indiana Public Service Company.

Description: § 205(d) Rate Filing: Filing of a CIAC Agreement to be effective 1/4/2016.

Filed Date: 12/21/15.

Accession Number: 20151221-5314.

Comments Due: 5 p.m. ET 1/11/16.

Take notice that the Commission received the following electric reliability filings:

Docket Numbers: RR15-12-001.

Applicants: North American Electric Reliability Corporation.

Description: Compliance Filing of North American Electric Reliability Corporation in Accordance with the Commission's November 2, 2015 Order.

Filed Date: 12/18/15.

Accession Number: 20151218-5315.

Comments Due: 5 p.m. ET 1/8/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 22, 2015.
Nathaniel J. Davis, Sr.,
Deputy Secretary.

[FR Doc. 2015-32689 Filed 12-28-15; 8:45 am]

BILLING CODE 6717-01-P